DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 17, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: Foreign Market Development Cooperator Program (FMD) and Market Access Program (MAP).

OMB Control Number: 0551-0026.

Summary of Collection: The authority for the Foreign Market Development Cooperator Program (FMD) and the Market Access Program (MAP) is contained in Title VII and section 203 of the Agricultural Trade Act of 1978, 7 U.S.C. 5623, as amended, which took effect October 21, 1978. The programs were reauthorized by the Agriculture Improvement Act of 2018 (section 3201), which became effective December 20, 2018. The primary objective of the FMD and MAP programs is to encourage and aid in the creation, maintenance and expansion of commercial export markets for United States agricultural commodities and products through cost-share assistance to eligible trade organizations. Financial assistance for both programs is made available on a competitive basis. The programs are administered by personnel of the Foreign Agricultural Service (FAS).

Need and Use of the Information: The collected information will be used by FAS to manage, plan, evaluate, and account for government resources. Specifically, data is used to assess the extent to which: applicant organizations represent U.S. commodity interests; benefits derived from market development effort will translate back to the broadest possible range of beneficiaries; the market development efforts will lead to increases in consumption and imports of U.S. agricultural commodities; the applicant is able and willing to commit personnel and financial resources to assure adequate development, supervision and execution of project activities; and private organizations are able and willing to support the promotional program with aggressive marketing of the commodity in question. Without the collected information the program could not be implemented.

Description of Respondents: Not-for-profit institutions; State, Local, or Tribal Government.

Number of Respondents: 67.

Frequency of Responses: Recordkeeping; Reporting: Annually.

Total Burden Hours: 88,922.

Ruth Brown,
Departmental Information Collection Clearance Officer.

[FR Doc. 2022-20022 Filed 9-14-22; 8:45 am]

BILLING CODE 3410-10-P